ENVIRONMENTAL PROTECTION AGENCY

40 CFR Parts 239 and 258

[FRL-7811-1]

Adequacy of Minnesota Municipal Solid Waste Landfill Program

AGENCY: Environmental Protection Agency (EPA).

ACTION: Proposed rule.

SUMMARY: This action proposes to approve Minnesota solid waste permit requirements pursuant to RCRA Section 4005 and imposes no federal requirements. In the “Rules and Regulations” section of this Federal Register, EPA is approving Minnesota's RD&D permit requirements by an Immediate Final Rule. EPA did not make a proposal prior to the Immediate Final Rule because we believe this action is not controversial and do not expect comments that oppose it. We have explained the reasons for this approval in the preamble to the Immediate Final Rule. Unless we receive written comments which oppose this approval during the comment period, the Immediate Final Rule will become effective on the date it establishes, and we will not take further action on this proposal. If we receive comments that oppose this action, we will withdraw the Immediate Final Rule, and it will not take effect. We will then respond to public comments in a later Final Rule based on this proposal. You will not have another opportunity for comment. If you want to comment on this action, you must do so at this time.

DATES: Send your written comments by October 12, 2004.

ADDRESSES: Written comments should be sent to Donna Twickler, Waste Management Branch (Mail Code: DW-8J), U.S. EPA Region 5, 77 West Jackson Boulevard, Chicago, Illinois 60604. Comments may also be submitted electronically through the Internet to: twickler.donna@epa.gov. See SUPPLEMENTARY INFORMATION for file formats for electronic submittals. Documents pertaining to this notice can be viewed and copied during regular business hours at the EPA Region 5 office located at the address noted above.

FOR FURTHER INFORMATION CONTACT: Donna Twickler, mailcode DW-8J, Waste Management Branch, U.S. EPA Region 5, 77 West Jackson Boulevard, Chicago, Illinois 60604, telephone (312) 886-6184, twickler.donna@epa.gov.

SUPPLEMENTARY INFORMATION: For additional information, please see the Immediate Final Rule published in the “Rules and Regulations” section of today's Federal Register.

Dated: August 30, 2004.
Norman Niedergang,
Acting Regional Administrator, US EPA, Region 5.

[FR Doc. 04-20504 Filed 9-9-04; 8:45 am]

BILLING CODE 6560-50-P